DEPARTMENT OF ENERGY

Notice of Availability: Draft Energy Storage Strategy and Roadmap; Extension of Public Comment Period

AGENCY: Department of Energy (DOE).

ACTION: Notice of availability (NOA); extension of public comment period.

SUMMARY: On December 20, 2024, the Department of Energy (DOE) published a notice entitled “Notice of Availability: Draft Energy Storage Strategy and Roadmap.” DOE is extending the public comment period announced in that notice, which currently closes on February 3, 2025, by 45 days. The comment period will now remain open until March 20, 2025, to allow additional time for the public to review and comment on the Draft DOE Energy Storage Strategy and Roadmap.

DATES: The comment period for the NOA published on December 20, 2024 (89 FR 104129) is extended. DOE will accept comments responding to this NOA submitted on or before March 20, 2025, 11:59 p.m. eastern time (ET).

ADDRESSES: Interested parties may submit comments electronically to esgc@hq.doe.gov, with the subject line “Energy Storage SRM—Comments”. Only electronic responses will be accepted. DOE will not accept hand-delivered submissions.

Requirements for Submissions: To be assured of consideration, submit any written comments by the deadline. All submissions must be in English. Responses must be provided as a Microsoft Word (.doc) or (.docx) attachment to the email with no more than 10 pages in length. Comments submitted should be machine-readable and should not be copy-protected. Comments must include the following responder information: company/institution name (if applicable); company/institution/individual contact name; contact's address, phone number, and email address; and a self-identified respondent category (see SUPPLEMENTARY INFORMATION section). This information may be used if there are issues or questions with the comment submission. DOE may not consider submissions that you do not make in accordance with these instructions.

Response Guidance: To facilitate comment submission, DOE is providing a comment template at https://www.energy.gov/oe/draft-energy-storage-strategy-and-roadmap-stakeholder-comment. Use of this template is not required; however, any comments provided must reference the relevant page and line number in the Draft DOE Energy Storage Strategy and Roadmap. If a comment addresses a table or figure, that cross-reference should be provided. To assist DOE's review of submitted comments, for each comment, please indicate a comment type from the following list: editorial; technical; reference; or other. See the provided template for guidance on each comment type.

FOR FURTHER INFORMATION CONTACT: Requests for additional information may be submitted electronically to Caitlin Callaghan at esgc@hq.doe.gov, or at (202) 586-1411. Please direct media inquiries to DOE Office of Public Affairs, (202) 586-4940 or DOENews@hq.doe.gov.

SUPPLEMENTARY INFORMATION: DOE is seeking general feedback on the Draft DOE Energy Storage Strategy and Roadmap (Energy Storage SRM) as part of its process to update the Energy Storage Grand Challenge 2020 Roadmap. The Draft Energy Storage SRM can be found here: https://www.energy.gov/oe/draft-energy-storage-strategy-and-roadmap-stakeholder-comment. Additional information is available in the original notice (89 FR 104129).

Based on consideration of the current timeline for public comment, including recognition of several Federal holidays, DOE is extending the public comment period announced in 89 FR 104129 by 45 days. Therefore, the public comment period is extended until March 20, 2025.

Signing Authority

This document of the Department of Energy was signed on January 15, 2025, by Gene Rodrigues, Assistant Secretary for the Office of Electricity, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 15, 2025.
Jennifer Hartzell,
Alternate Federal Register Liaison Officer, U.S. Department of Energy.

[FR Doc. 2025-01394 Filed 1-21-25; 8:45 am]

BILLING CODE 6450-01-P